DEPARTMENT OF TRANSPORTATION

Federal Aviation Administration

[Docket No. FAA-2018-1087]

Agency Information Collection Activities: Requests for Comments; Clearance of a New Approval of Information Collection: Operation of Small Unmanned Aircraft Systems Over People

AGENCY: Federal Aviation Administration (FAA), DOT.

ACTION: Notice and request for comments.

SUMMARY: In accordance with the Paperwork Reduction Act of 1995, FAA invites public comments about our intention to request Office of Management and Budget (OMB) approval for a new information collection. The collection involves operators and owners of small unmanned aircraft systems (UAS) issued an airworthiness certificate under Part 21, and mandates that these entities must retain records of all maintenance performed on their aircraft and records documenting the status of life-limited parts, compliance with airworthiness directives, and inspection status of the aircraft. These records are used to validate that aircraft are maintained in a manner that ensures the reliability associated with having an airworthiness certificate and that the operations-over-people privileges afforded to category 4 operations continue to be appropriate. The owner or operator may keep these records electronically or by paper.

DATES: Written comments should be submitted by March 29, 2021.

ADDRESSES: Please send written comments:

By Electronic Docket: www.regulations.gov (Enter docket number into search field).

By mail: Dwayne C. Morris, 800 Independence Ave. SW, Washington, DC 20591.

By email: chris.morris@faa.gov.

By fax: 202-267-1078.

FOR FURTHER INFORMATION CONTACT: Michael Machnik by email at: michael.machnik@faa.gov; phone: 630-488-0090.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0775.

Title: Operation of Small Unmanned Aircraft Systems over People.

Form Numbers: N/A.

Type of Review: New.

Background: The FAA published the final rule Operation of Small Unmanned Aircraft Systems over People on January 15, 2021 (86 FR 4314). In that rule, the FAA is requiring that owners and operators of small UAS issued an airworthiness certificate under part 21 retain records of all maintenance performed on their aircraft and records documenting the status of life-limited parts, compliance with airworthiness directives, and inspection status of the aircraft. The records must be kept for the time specified in § 107.140, and they must be available to the FAA and law enforcement personnel upon request. The owner may keep these records electronically or on paper.

Respondents: The FAA estimates that an average of two owners per year will be subject to this recordkeeping requirement. The FAA further estimates that each of those owners operates a fleet of 100 UAS.

Frequency: On occasion.

Estimated Average Burden per Response: The FAA estimates that creation and retention of these records would require 30 minutes per UAS.

Estimated Total Annual Burden: 100 hours per year, based on an estimate of 2 owners per year, each owning 100 UAS and spending 30 minutes per UAS.

Issued in Washington, DC, on January 20, 2021.
Dwayne C. Morris,
Project Manager, Flight Standards Service, General Aviation and Commercial Division.

[FR Doc. 2021-01680 Filed 1-25-21; 8:45 am]

BILLING CODE 4910-13-P